INTERNATIONAL TRADE COMMISSION

[Investigation No. 337-TA-1176]

Certain Semiconductor Devices and Components Thereof (I); Commission Determination Not To Review an Initial Determination (Order No. 7) Terminating an Investigation Due to a Settlement Agreement; Termination of Investigation

AGENCY: U.S. International Trade Commission.

ACTION: Notice.

SUMMARY: Notice is hereby given that the U.S. International Trade Commission (the “Commission”) has determined not to review an initial determination (“ID”) (Order No. 7) terminating the investigation due to a settlement agreement. The investigation is terminated.

FOR FURTHER INFORMATION CONTACT: Carl P. Bretscher, Office of the General Counsel, U.S. International Trade Commission, 500 E Street SW, Washington, DC 20436, telephone (202) 205-2382. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server (https://www.usitc.gov). The public record for this investigation may be viewed on the Commission's Electronic Docket Information System (“EDIS”) (https://edis.usitc.gov). Hearing-impaired persons are advised that information on this matter can be obtained by contacting the Commission's TDD terminal, telephone (202) 205-1810.

SUPPLEMENTARY INFORMATION: On October 1, 2019, the Commission instituted the present investigation based on a complaint and supplementation thereto filed by Globalfoundries U.S. Inc. (“Globalfoundries”) of Santa Clara, California. 84 FR 52125-26 (Oct. 1, 2019). The complaint, as supplemented, alleges violations of 19 U.S.C. 1337, as amended (“Section 337”), based upon the importation into the United States, sale for importation, and sale in the United States after importation of certain semiconductor devices, products containing the same, and components thereof that allegedly infringe one or more of the asserted claims of U.S. Patent Nos. 8,912,603; 7,750,418; and 8,936,986. Id. The complaint also alleges the existence of a domestic industry. Id. The notice of investigation named 22 respondents (collectively, “Respondents”), including Taiwan Semiconductor Manufacturing Co. of Hsinchu, Taiwan and TSMC North America of San Jose, California (collectively, “TSMC”). Id. at 52126. The Office of Unfair Import Investigations (“OUII”) was also named as a party. Id.

On November 8, 2019, Globalfoundries and all 22 Respondents filed a joint motion to terminate the investigation based on a settlement agreement (including a patent cross-license agreement) reached between Globalfoundries and TSMC that purportedly resolves all of the issues with respect to all of the Respondents in this investigation. The joint motion includes an unredacted, confidential copy of the patent cross-license agreement, which the parties request be disclosed only to Globalfoundries, TSMC, and Commission staff. The parties also confirmed that there are no other agreements, written or oral, express or implied, between Globalfoundries and Respondents relating to the subject matter of the investigation. On November 20, 2019, OUII filed a response supporting the motion and the request to limit disclosure of the patent cross-license agreement.

On November 25, 2019, the presiding administrative law judge (“ALJ”) entered the subject ID (Order No. 7) granting the joint motion to terminate the investigation. The ID agrees with the parties that Commission policy and the public interest generally favors settlements. Order No. 7 at 2 (Nov. 25, 2019). The ID further finds that termination of the investigation will not impose any undue burdens on the public health and welfare, competitive conditions in the United States economy, production of like or directly competitive articles in the United States, or U.S. consumers. Id. The ID also grants the parties' request to limit disclosure of the unredacted version of the confidential settlement agreement to the settling parties and Commission staff. Id. at 3.

No petitions to review the subject ID were filed. The Commission has determined not to review the subject ID. The investigation is terminated.

The authority for the Commission's determination is contained in Section 337 of the Tariff Act of 1930, as amended (19 U.S.C. 1337), and in part 210 of the Commission's Rules of Practice and Procedure (19 CFR part 210).

By order of the Commission.
Issued: December 20, 2019.
Lisa Barton,
Secretary to the Commission.

[FR Doc. 2019-28041 Filed 12-27-19; 8:45 am]

BILLING CODE 7020-02-P